SUSQUEHANNA RIVER BASIN COMMISSION

Public Hearing

AGENCY: Susquehanna River Basin Commission.

ACTION: Notice.

SUMMARY: The Susquehanna River Basin Commission will hold a public hearing on February 1, 2024. The Commission will hold this hearing in person and telephonically. At this public hearing, the Commission will hear testimony on the projects listed in the Supplementary Information section of this notice and testimony on the General Permit GP-3, Cooperative Fish Nursery. Such projects and actions are intended to be scheduled for Commission action at its next business meeting, tentatively scheduled for March 14, 2024, which will be noticed separately. The public should note that this public hearing will be the only opportunity to offer oral comments to the Commission for the listed projects and actions. The deadline for the submission of written comments is February 12, 2024.

DATES: The public hearing will convene on February 1, 2024, at 6:30 p.m. The public hearing will end at 9 p.m. or at the conclusion of public testimony, whichever is earlier. The deadline for submitting written comments is Monday, February 12, 2024.

ADDRESSES: This public hearing will be conducted in person and virtually. You may attend in person at Susquehanna River Basin Commission, 4423 N. Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov.

The draft General Permit GP-3, Cooperative Fish Nursery, and related Fact Sheet may be viewed on the Commissions website at https://www.srbc.gov/regulatory/public-participation/.

Information concerning the project applications is available at the Commission's Water Application and Approval Viewer at https://www.srbc.net/waav. Additional supporting documents are available to inspect and copy in accordance with the Commission's Access to Records Policy at www.srbc.gov/regulatory/policies-guidance/docs/access-to-records-policy-2009-02.pdf.

SUPPLEMENTARY INFORMATION: In addition to hearing testimony on General Permit GP-3, the public hearing will cover the following projects:

Projects Scheduled for Action:

1. Project Sponsor and Facility: ADLIB Resources, Inc. (Meshoppen Creek), Springville Township, Susquehanna County, Pa. Application for renewal of surface water withdrawal of up to 0.499 mgd (peak day) (Docket No. 20190301).

2. Project Sponsor and Facility: Beech Resources, LLC (Lycoming Creek), Lycoming Township, Lycoming County, Pa. Application for surface water withdrawal of up to 1.500 mgd (peak day).

3. Project Sponsor and Facility: Cherokee Pharmaceuticals, LLC (Susquehanna River), Riverside Borough, Northumberland County, Pa. Modification to extend the approval terms of the consumptive use and surface water withdrawal approvals (Docket Nos. 20090310 and 20090311) while the facility begins to decommission operations through 2028, and a phased reduction in the surface water withdrawal from 34.392 mgd to 5.100 mgd (peak day) and consumptive use from 0.999 mgd to 0.200 mgd (peak day).

4. Project Sponsor and Facility: Chesapeake Appalachia, L.L.C. (Susquehanna River), Braintrim Township, Wyoming County, Pa. Application for renewal of surface water withdrawal of up to 3.000 mgd (peak day) (Docket No. 20190303).

5. Project Sponsor and Facility: Chesapeake Appalachia, L.L.C. (Susquehanna River), Wysox Township, Bradford County, Pa. Modification to increase surface water withdrawal by an additional 2.001 mgd (peak day), for a total withdrawal of up to 3.000 mgd (peak day) (Docket No. 20220603).

6. Project Sponsor and Facility: Conestoga Country Club, Manor Township, Lancaster County, Pa. Application for renewal of groundwater withdrawal of up to 0.281 mgd (30-day average) from Well 1 (Docket No. 20080617).

7. Project Sponsor: Dauphin County General Authority. Project Facility: Highlands Golf Course, Swatara Township, Dauphin County, Pa. Application for renewal of consumptive use of up to 0.249 mgd (30-day average) (Docket No. 19940104).

8. Project Sponsor and Facility: East Cocalico Township Authority, East Cocalico Township, Lancaster County, Pa. Application for renewal of groundwater withdrawal of up to 0.115 mgd (30-day average) from Well 2A (Docket No. 19990901).

9. Project Sponsor: East Hempfield Township. Project Facility: Four Seasons Golf Club, East Hempfield Township, Lancaster County, Pa. Applications for renewal of groundwater withdrawal of up to 0.199 mgd (30-day average) from Well C and consumptive use of up to 0.304 mgd (peak day) (Docket No. 19970504).

10. Project Sponsor: Golf Enterprises, Inc. Project Facility: Valley Green Golf Course, Newberry Township, York County, Pa. Application for renewal of consumptive use of up to 0.099 mgd (30-day average) (Docket No. 20021019).

11. Project Sponsor: Greater Hazleton Community-Area New Development Organization, Inc. Project Facility: CAN DO, Inc.—Corporate Center, Butler Township, Luzerne County, Pa. Application for groundwater withdrawal of up to 0.288 mgd (30-day average) from Well 2.

12. Project Sponsor and Facility: Greylock Production, LLC (Genesee Forks), Hector Township, Potter County, Pa. Application for surface water withdrawal of up to 1.440 mgd (peak day).

13. Project Sponsor and Facility: Greylock Production, LLC (Pine Creek), Ulysses Township, Potter County, Pa. Application for surface water withdrawal of up to 2.592 mgd (peak day).

14. Project Sponsor and Facility: Hegins-Hubley Authority, Hegins Township, Schuylkill County, Pa. Application for renewal of groundwater withdrawal of up to 0.110 mgd (30-day average) from Well 5 (Docket No. 19981204).

15. Project Sponsor and Facility: Keystone Potato Products, LLC, Frailey Township, Schuylkill County, Pa. Applications for groundwater withdrawal of up to 0.140 mgd (30-day average) from Well 2 and consumptive use of up to 0.140 mgd (30-day average).

16. Project Sponsor: New Enterprise Stone & Lime Co., Inc. Project Facility: Laflin Quarry, Plains Township, Luzerne County, Pa. Modification to increase consumptive use by an additional 0.240 mgd (30-day average), for a total consumptive use of up to 0.280 mgd (30-day average) (Docket No. 20230613).

17. Project Sponsor and Facility: New Holland Borough Authority, Earl Township, Lancaster County, Pa. Application for groundwater withdrawal of up to 0.391 mgd (30-day average) from Well 1.

18. Project Sponsor and Facility: Newport Borough Water Authority, Oliver Township, Perry County, Pa. Application for early renewal of groundwater withdrawal at an increased rate of up to 0.096 mgd (30-day average) from Well 1 (Docket No. 20140908).

19. Project Sponsor: Post Consumer Brands, LLC. Project Facility: Bloomsburg Plant, South Centre Township, Columbia County, Pa. Applications for renewal of groundwater withdrawal of up to 0.530 mgd (30-day average) from Well 6 and consumptive use of up to 0.800 mgd (peak day) (Docket No. 19910709).

20. Project Sponsor and Facility: PPG Operations LLC (West Branch Susquehanna River), Goshen Township, Clearfield County, Pa. Modification to review withdrawal and approval for use of AMD-impacted water under Commission Policy No. 2021-04 (Docket No. 20210605).

21. Project Sponsor: Rich Valley Golf, Inc. Project Facility: Rich Valley Golf Course (Conodoguinet Creek), Silver Spring Township, Cumberland County, Pa. Applications for renewal of surface water withdrawal of up to 0.325 mgd (peak day) and consumptive use of up to 0.325 mgd (30-day average) (Docket No. 19990306).

22. Project Sponsor and Facility: Seneca Resources Company, LLC (Cowanesque River), Westfield Township, Tioga County, Pa. Application for renewal of surface water withdrawal of up to 0.375 mgd (peak day) (Docket No. 20190311).

23. Project Sponsor: Shadow Ranch Resort, Inc. Project Facility: Shadowbrook Resort (Tunkhannock Creek), Tunkhannock Township, Wyoming County, Pa. Application for renewal of surface water withdrawal of up to 0.999 mgd (peak day) (Docket No. 20190307).

24. Project Sponsor and Facility: Sugar Hollow Water Services LLC (Martins Creek), Hop Bottom Borough, Susquehanna County, Pa. Application for renewal of surface water withdrawal of up to 0.360 mgd (peak day) (Docket No. 20190310).

25. Project Sponsor and Facility: SWN Production Company, LLC (Martins Creek), Brooklyn Township, Susquehanna County, Pa. Application for renewal of surface water withdrawal of up to 0.997 mgd (peak day) (Docket No. 20190312).

Opportunity to Appear and Comment:

Interested parties may call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 6:15 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, February 12, 2023, to be considered.

Authority: Public Law 91-575, 84 Stat. 1509 et seq., 18 CFR parts 806, 807, and 808.

Dated: January 5, 2024.
Jason E. Oyler,
General Counsel and Secretary to the Commission.

[FR Doc. 2024-00357 Filed 1-9-24; 8:45 am]

BILLING CODE 7040-01-P